DEPARTMENT OF HEALTH AND HUMAN SERVICES

Indian Health Service

List of Recipients of Indian Health Scholarships Under the Indian Health Scholarship Program

The regulations governing Indian Health Care Improvement Act Programs (Pub. L. 94-437) provide at 42 CFR 36.334 that the Indian Health Service shall publish annually in the Federal Register a list of recipients of Indian Health Scholarships, including the name of each recipient, school and tribal affiliation, if applicable. These scholarships were awarded under the authority of Sections 103 and 104 of the Indian Health Care Improvement Act, 25 U.S.C. 1613-1613a, as amended by the Indian Health Care Amendments of 1988, Pub. L. 100-713.

The following is a list of Indian Health Scholarship Recipients funded under Sections 103 and 104 for Fiscal Year 1999:

Abertia, Lynn Ann, Arizona State University, Pueblo of Isleta

Ables, Millicent Elaine, University of Kansas, Choctaw Nation of Oklahoma

Abold-Arellano, Carol Ann, University of South Dakota, Oglala Sioux of the Pine Ridge Reservation

Adams, Daniel Robert, North Dakota State University, Sisseton-Wahpeton Sioux Tribe

Alexander, Andrea Lynn, Oklahoma State University_Ada, Seminole Nation of Oklahoma

Alexander, Lisa Kalliah, Washington State University/Vancouver School of Medicine, Confederated Tribes of the Grand Ronde

Allen, Gwen Vera, Salish Kootenai College, Confederated Tribes of the Colville Reservation

Allen, Toni Lee, University of Oklahoma, Choctaw Nation of Oklahoma

Allery-Decoteau, Crystal Vernelle, Minot State University, Turtle Mountain Band of Chippewa Indians

Allery, Cynthia Ann, University of North Dakota, Turtle Mountain Band of Chippewa Indians

Allick, Albert Philip, University of Minnesota-Duluth, Turtle Mountain Band of Chippewa Indians

Allison, Rochelle Jade, Mesa Community College, Navajo Tribe of AZ, NM, & UT

Ammesmaki, Frank P., University of North Dakota, Fond du Lac Band_MN Chippewa

Anderson, Debbie Ann, Salish-Kootenai Community College, Confederated Salish & Kootenai Tribes

Anderson, Lisa Dawn, College of St. Scholastica, Bois Forte Band_MN Chippewa

Anderson, Sandra Dee, Mesa Community College, Navajo Tribe of AZ, NM, & UT

Anderson-McMillan, Tarina Kay, University of Southern Mississippi, Mississippi Band of Choctaw Indians

Andrews, Jananna Dove, University of Alaska, Teller Native Village

Antonio, John Emery, University of New Mexico_Albuquerque, Pueblo of Laguna, NM

Arneson, Richelle Marie, University of Washington, Tlingit & Haida Indians Tribes, AK

Arviso, Angela, University of New Mexico, Navajo Tribe of AZ, NM, & UT

Ashley, Jeannette, New Mexico State University_Las Cruces, Navajo Tribe of AZ, NM, & UT

Atcitty, Nicole Robin, University of New Mexico_Gallup, Navajo Tribe of AZ, NM, & UT

Bacoch, Michaele, University of the Pacific, Big Pine Paiute Shoshone

Barber, Tina, Northern Arizona University, Navajo Tribe of AZ, NM, & UT

Bark, Linda Marie, University of Arkansas, Confederated Tribes of the Colville Reservation

Barkhurst, Kip, University of New Mexico, Navajo Tribe of AZ, NM, & UT

Barnes, Carmen Rose, University of New Mexico, Confederated Salish & Kootenai Tribes

Barnes, Kellie Elizabeth, University of Oklahoma, Chickasaw Nation of Oklahoma

Bartholomew, Michael Lee, Dartmouth Medical School, Kiowa Of Oklahoma

Bartmess, Valene Nancy, University of Oklahoma, Muskogee (Creek) Nation of Oklahoma

Beard, R. Lacy, University of Oklahoma_Norman, Choctaw Nation of Oklahoma

Begay, Andreana, University of New Mexico_Gallup, Navajo Tribe of AZ, NM, & UT

Begay, Bryant, Apollo College, Navajo Tribe of AZ, NM, & UT

Begay, Helena Elsie, Phoenix College, Navajo Tribe of AZ, NM, & UT

Begay, Miranda, University of New Mexico, Navajo Tribe of AZ, NM, & UT

Begay, Monica Calley, Colorado State University, Navajo Tribe of AZ, NM, & UT

Begay, Paula Moiselle, Weber State University, Navajo Tribe of AZ, NM, & UT

Begay, Sarah Jane, New Mexico Highland University, Navajo Tribe of AZ, NM, & UT

Begay, Stephanie Ann, University of New Mexico, Navajo Tribe of AZ, NM, & UT

Begay, Stephanie R., University of New Mexico, Navajo Tribe of AZ, NM, & UT

Begay, Tamana, University of California_San Francisco, Navajo Tribe of AZ, NM, & UT

Begaye, Wahaila Nizhoni, University of Utah, Navajo Tribe of AZ, NM, & UT

Behymer, Virginia May, University of Alaska_Anchorage, Aleut

Belgarde, Vita Ann, University of North Dakota, Turtle Mountain Band of Chippewa Indians

Bell, Jason Burton, University of North Dakota, Three Affiliated Tribes of the Fort Berthold Reservation

Ben, Elaine Ann, University of New Mexico, Navajo Tribe of AZ, NM, & UT

Ben, Lydia, Northern Arizona University, Navajo Tribe of AZ, NM, & UT

Benally, Annisa, New Mexico Highland University, Navajo Tribe of AZ, NM, & UT

Benally, Cheryl Lynn, Pima Co. Community College, Navajo Tribe of AZ, NM, & UT

Benally Dorena, San Juan Community College, Navajo Tribe of AZ, NM, & UT

Benally, Max Joe, Northern Arizona University, Navajo Tribe of AZ, NM, & UT

Benally, Romancelita, University of Arizona, Navajo Tribe of AZ, NM, & UT

Benton, Mario, University of Arizona/Tucson, Round Valley Indian Tribes

Bercier, Christine Marie, University of North Dakota, Turtle Mountain Band of Chippewa Indians

Berg, Ida, University of Phoenix, Navajo Tribe of AZ, NM, & UT

Berryhill-Baker, Tishanda Leigh, Northeastern State University, Muskogee (Creek) Nation of Oklahoma

Bia, Gabriel Tyler, University of New Mexico, Navajo Tribe of AZ, NM, & UT

Bighorn, Lisa Elaine, University of Colorado_Denver, Assiniboine & Sioux of Fort Peck, MT

Bighorn, Praire Rose, Rocky Mountain College, Assiniboine & Sioux of Fort Peck, MT

Billy, Vermonica, San Juan Community College, Navajo Tribe of AZ, NM, & UT

Blair, Wendy Suzanne, University of Texas Medical School at San Antonio, Comanche of Oklahoma

Boatwright, Melinda Lea, East Central University, Choctaw Nation of Oklahoma

Boloz, Angelita Colleen, University of New Mexico, Navajo Tribe of AZ, NM, & UT

Boot, Maryjo, University of Arizona College of Pharmacy, Pueblo of Zuni Tribe, NM

Booth, Geri Lynn, Bellin College of Nursing, Lac Courte Oreilles Band of Lake Superior Chippewa

Booth, Loretta M. Rie, Pacific University College, Cheyenne River Sioux

Bourque-Wilton, Leanna Shere, Lake Superior State University, Sault Ste. Marie Tribe—Chippewa

Boyd, Cassandra Iva, University of New Mexico—Gallup, Navajo Tribe of AZ, NM, & UT

Bradley, Stephanie, East Carolina University, Eastern Band Cherokee of NC

Brandt, Julie Marie, University of the Health Sciences College, Iowa Tribe of KS & NE

Breland, Kylie Lea, University of North Dakota, Turtle Mountain Band of Chippewa Indians

Briere, Delmar Lee, University of North Dakota, Turtle Mountain Band of Chippewa Indians

Briggs, Misty Elaine, Northeastern State University, Cherokee Nation of Oklahoma

Brinson, Timothy James, East Central University, Citizen Band Potawatomi of Oklahoma

Briones, Rosinna, Arizona Heart Institute Foundation, Salt River Pima-Maricopa Indian Community

Brooks, Shelly Beth, University of Arkansas—Fayetteville, Cherokee Nation of Oklahoma

Brosel, Conrad Carl, University of Wisconsin, Oneida of Wisconsin

Brown, Gerald Ray, Oklahoma State University, Cherokee Nation of Oklahoma

Brown, Ryan David, University of Oklahoma, Choctaw Nation of Oklahoma

Bruce, Dawn Marie, University of North Dakota, Turtle Mountain Band of Chippewa Indians

Bruce, Troy Alan, Presentation College, Turtle Mountain Band of Chippewa Indians

Brunoe, Carnella Lynn, Oregon Health Sciences University, Pueblo of Laguna

Burk, Kristi Carroll, Fort Lewis College, Alaskan/Not Specified

Burnette, Ronald, New Mexico State University, White Mountain Apache Tribe

Bush, Gerald Ray, University of Arizona College of Medicine, White Mountain Apache Tribe

Butterfly, Glenn Curtis, Blackfeet Community College, Blackfeet Tribe

Cain, Marcia L., University of Montana School of Medicine, Sitka Tribe Community Association

Caldwell, Troy Tinsley, University of Oklahoma, Cherokee Nation of Oklahoma

Campbell, Gabriel Antonio, University of North Dakota, Confederated Salish & Kootenai

Campbell, Jamie Renae, East Central University, Muskogee (Creek) Nation of Oklahoma

Camplain-Guthrie, Jamie Lynn, University of Oklahoma Dental School, Choctaw Nation of Oklahoma

Camplain-Sudderth, Lisa Nichole, University of Oklahoma Health Science Center, Choctaw Nation of Oklahoma

Carpenter, April Rachelle, University of Oklahoma HSC, Chickasaw Nation of Oklahoma

Carroll, Ian Lorne, University of Washington School of Medicine, Alaskan/Not Specified

Cary, Brenda Lee, University of Minnesota—Duluth, Oneida of Wisconsin

Charles, Tracey Roseann, University of Tennessee—Memphis, Choctaw Nation of Oklahoma

Charlo, Joseph Donald, University of Montana, Confederated Salish & Kootenai Tribes

Chatter, Teddy Duke, University of Utah, Navajo Tribe of AZ, NM, & UT

Chimoni, Reinette, University of New Mexico, Zuni Tribe

Christofferson, Melissa Renee, Bethel College, White Earth Band—Minnesota Chippewa

Chythlook, William T., Loma Linda University, Alaskan

Clancy, Venessa Mae, Salish-Kootenai Community College, Assiniboine & Sioux of Fort Peck, MT

Clark, Doreen June, Carroll College, Barrow Native Village

Clark, Dorrance Dean, University of Michigan Dental School, Assiniboine & Sioux of Fort Peck, MT

Clarke, Alberta, Dine College, Navajo Tribe of AZ, NM, & UT

Clauschee-Freeland, Rachel Sue, Grand Canyon College, Navajo Tribe of AZ, NM & UT

Clay, Rondella Evelyn, East Central Oklahoma State University, Three Affiliated Tribes of the Fort Berthold Reservation

Cloer-Myers, Melissa Lynn, University of Columbia, Choctaw Nation of Oklahoma

Comnick, Kymberlee Rae, Oregon Institute of Technology, Rosebud Sioux

Condon, William Roger, University of Mary, Standing Rock Sioux ND and SD

Conners, Tina Jean, State University of NY/Oswego/St. Regis Band of Mohawk Indians, NY

Conter, Keri Lee, Rocky Mountain College, Crow Tribe of Montana

Cooper, April Deann, Northeastern State University, Cherokee Nation of Oklahoma

Cooper, Benjamin Dale, Northeastern State University, Cherokee Nation of Oklahoma

Cravatt, Kymberly Diona, University of Oklahoma, Seminole of Oklahoma

Credo, Katherine Morris, University of Texas Medical Branch at Galveston, Navajo Tribe of AZ, NM & UT

Crocker-Ericson, Elizabeth Marie, University of Southen California, Cherokee Nation of Oklahoma

Cromer, Kelly Jenise, Southwestern Oklahoma State University, Cheyenne—Arapaho of Oklahoma

Cruz, Kelly Janice Lynn, Albuquerque Technical Vocational Institute, Pueblo of Acoma

Cruz, Mark Deleon, University of San Francisco, Ysleta Del Sur Pueblo of TX

Culver, Jennifer Lyn, Oklahoma State University, Cherokee Nation of Oklahoma

Cummings, James Jackson, Southwestern Oklahoma State Univ., Cherokee Nation of Oklahoma

Cunningham, Roxie Kim, University of Washington, Nez Perce of Idaho

Dahlen, Jencie Kay, University of North Dakota, Turtle Mountain Band of Chippewa Indians

Damon, Dezbaa Altaalkii, Arizona State University, Navajo Tribe of AZ, NM & UT

Daniels, Letitia Renita, University of Oklahoma, Seminole of Oklahoma

Daniels, Virginia, California School of Professional Psychology, Navajo Tribe of AZ, NM & UT

Daugherty, Jamie Suzette, University of Oklahoma, Cherokee Nation of Oklahoma

Davidson, Kelly Ann, Southern Illinois University—Carbondale, Aleut, AK

Davis, Allison Kay, University of North Dakota, Crow Creek Sioux of South Dakota

Davis, Brandy Darlene, Southwestern Community College, Eastern Band of Cherokee Indians of NC

Davis, Gloria Marion, University of North Dakota, Turtle Mountain Band of Chippewa Indians

Davis, Lisa Marie, University of North Dakota, Turtle Mountain Band of Chippewa Indians

Dawes, Kari Elaine, University of Iowa, Cherokee Nation of Oklahoma

De La Rosa, Ofelia Monique, University of Oklahoma, Delaware of Oklahoma

Dean, Eric Rae, Oklahoma State University, Choctaw Nation of Oklahoma

Deardorff, Cynthia Ann, Oklahoma Baptist University, Absentee-Shawnee Tribe of Indians of Oklahoma

Dearman, Callie Elizabeth, Oklahoma Baptist University, Cherokee Nation of Oklahoma

Declay, Nadia Lupe, University of Arizona, White Mountain Apache Tribe

Decoteau, Michelle Germaine, Minot State University, Turtle Mountain Band of Chippewa Indians

Delmar, Marjorie, Northern Arizona University, Navajo Tribe of AZ, NM & UT

Delorme, Angelynn, Portland State University, Turtle Mountain Band of Chippewa Indians

Delorme, Carolyn Marie, North Dakota State University, Turtle Mountain Band of Chippewa Indians

Dement, Rachel Leah, Emory University School of Medicine, Oglala Sioux Tribe of Pine Ridge, SD

Denson, Kent Douglas, University of Oklahoma, Chickasaw Nation of Oklahoma

Deshnod, Sheilah A., University of New Mexico, Navajo Tribe of AZ, NM & UT

Detmer, Sandra Joy, Modesto Junior College, Turtle Mountain Band of Chippewa Indians

Devereaux, Toni Lynn, Salish Kootenai College, Blackfeet Tribe, MT

Dewbre, George Eddie, Southeastern Oklahoma State University, Choctaw Nation of Oklahoma

Dickerson, Daniel Lee, College of Osteopathic Medicine of the Pacific, Alaskan

Dillard, Ursula Gwynn, Harvard College/Radcliff College, Navajo Tribe of AZ, NM, & UT

Dineyazhe, Frances Lynn, University of Arizona, Navajo Tribe of AZ, NM, & UT

Dionne, Arthur James, Minot State University, Turtle Mountain Band of Chippewa Indians

Dixon, Damon Brian, University of North Dakota, Hopi Tribe

Dixon, Missena Elizabeth, Cameron University, Seminole of Oklahoma

Downing, Leigh Anne, University of Texas, Chickasaw Nation of Oklahoma

Dykstra, Kevin Duane, Ohio State University, Kiowa of Oklahoma

Eagle, Kathryn Rae, University of Arizona College of Medicine, Three Affiliated Tribes of the Fort Berthold Reservation

Edwards, Kerry Rachelle, University Oklahoma, Cherokee Nation of Oklahoma

Edwards, Polly Ann, University of Oklahoma, Caddo Indian Tribe of Oklahoma

Edwards, Ralph Casey, Carl Albert State of College, Cherokee Nation of Oklahoma

Egan, Leonora Ann, Univesity of New Mexico, Navajo Tribe of AZ, NM, & UT

Elliott, Billy Wayne, Northern Arizona University, Wyandotte of Oklahoma

Ellis, Pamela Renee, Arizona State University, Navajo Tribe of AZ, NM, & UT

Emery, Charles Richard, Duke University Med. Ctr. Phy. Asst. Prg., Cheyenne River Sioux Tribe, SD

Endischee, Sophia, University of Arizona, Navajo Tribe of AZ, NM, & UT

Engavo, Earlene Debra, Central Wyoming College, Arapaho Tribe—Wind River

Eriacho, Cerelia, University of New Mexico—Gallup, Zuni Tribe, NM

Esalio, Stacy Gwen, University of New Mexico—Albuquerque, Zuni Tribe, NM

Evan, Mona Irene, University of Alaska, Kake Organized Village

Fairbanks, Barbara Ann, Northwest Technical College, White Earth Band—MN Chippewa

Fields, Julie Marie, University of Tulsa, Crow Tribe of Montana

Filteau, Sarah Louise, Bellin College of Nursing, Bad River Band of Chippewa, WI

Fingerlin, Nancy Ellen, University of Oklahoma—Norman, Chickasaw Nation of Oklahoma

Fleming, Stephani Rose, University of Wyoming, Turtle Mountain Band of Chippewa Indians

Foldoe, Debra Ann, University of Texas—Arlington, Minnesota Chippewa Tribe (6 component Reservations)

Folger, Gloria, Weber State College, Najavo Tribe of AZ, NM, & UT

Foster, Shawna Leann, Northeastern State University, Cherokee Nation of Oklahoma

Fred, Alana Renee, University of Arizona, Navajo Tribe of AZ, NM, & UT

Freeman, Michael Scott, University of Health Sciences College Osteo Med, Cherokee Nation of Oklahoma

Freeman, Ryan Matthew, University of Oklahoma, Muskogee (Creek) Nation of Oklahoma

Frigerio, Sonya Renee, University of New Mexico, Choctaw Nation of Oklahoma

Fryrear, Carrie Marie, Southwestern Oklahoma State University, Chickasaw Nation of Oklahoma

Gaddy, Jasmine Reanna, Temple University, Navajo Tribe of AZ, NM, & UT

Gamble, Wanda, Northern Arizona University, Navajo Tribe of AZ, NM, & UT

Gardipee, Walter Thomas, University of Montana, Little Shell Tribe of Chippewa/Montana

Garness, Mary, Northland College, Bad River Band of the Lake Superior Tribe of Chippewa

Gashytewa, Carrie Lynette, University of New Mexico—Albuquerque, Zuni Tribe, NM

Gillis, Christopher Jon, Minot State University, Turtle Mountain Band of Chippewa Indians

Gladstone, Joseph Scott, University of Arizona, Blackfeet Tribe, MT

Gloshay, Jr., Eddie, University of Arizona, White Mountain Apache

Glover, Justin Mathew, Oklahoma State University, Choctaw Nation of Oklahoma

Goggles, Sunny Rae, University fo North Dakota, Arapahoe Tribe of the Wind River Reservation

Goodman, Gayla Beth, University of Maryland, Kickapoo of Oklahoma

Gordon, Jennifer Lynn, California Stae University, Red Cliff Band of Lake Superior Chippewa

Gordon, Melissa Marion, Montana State University, Crow Tribe of MT

Gorman, Marianita Elizabeth, University of New Mexico, Navajo Tribe of AZ, NM, & UT

Gourneau, Dean Anthony, University of North Dakota, Turtle Mountain Band of Chippewa Indians

Graham, Sara Wanbli, South Dakota State University, Oglala Sioux Tribe of Pine Ridge, SD

Grant, Elizabeth Lee, St Vincent Hospital & Health Center, Blackfeet Tribe, MT

Grant, Vanissa Ann, University of Montana, Blackfeet Tribe MT

Grass, Regina, Oklahoma University, Cherokee Nation of Oklahoma

Gray, Elfreida Ann, Northern Arizona University, Navajo Tribe of AZ, NM, & UT

Gray, Jason Charles, University of Oklahoma Center, Choctaw Nation of Oklahoma

Gray, Jennifer Anne, Langston University, Osage of Oklahoma

Gray, Thomas Kevin, University of North Dakota, Confederated Salish & Kootenai Tribes

Green, Sarah Carrol, University of Oklahoma, Choctaw Nation of Oklahoma

Gregoire, Wenona Evonne, SUNY at Buffalo, Seneca Nation of New York

Grey, Michael, University of New Mexico—Albuquerque, Navajo Tribe of AZ, NM, & UT

Guinn, Heather Elaine, Tulsa Junior College, Muskogee (Creek) Nation of Oklahoma

Gust, Kateri Lyn, Montana State University—Billings, Crow Tribe of Montana

Guy, Martina Rae, University of Arizona, Navajo Tribe of AZ, NM, & UT

Guyton, Georgia Ann, Rose State College, Muskogee (Creek) Nation of Oklahoma

Hacker, John David, Hampton Institute, Rosebud Sioux

Hager, Arlette D., Presentation College, Cheyenne River Sioux Tribe

Hagerty, Kori Lynn, University of New Mexico, Blackfeet Tribe, MT

Hall, Kent Hartland, University of Central Oklahoma, Citizen Band Potawatomi of Oklahoma

Hall, Raquel Ellen, University of California Davis, Coastal Bank of the Chumash Nation

Hanning, Laura Lynn, University of Montana, Blackfeet Tribe, MT

Harhut, Michael Anthony, University of Michigan, Nome Eskimo Community

Harjo, Jim B., Oklahoma State University, Muskogee (Creek) Nation of Oklahoma

Harjo, Rebecca Ruth, University of Southern California, Muskogee (Creek) Nation of Oklahoma

Harnage, Julie Ann, University of Central Oklahoma, Cherokee Nation of Oklahoma

Harris, Leslie Jo, University of North Dakota, Turtle Mountain Band of Chippewa Indians

Harrison, Geniel, University of Utah, Confederated Tribes of the Goshute

Harrison, Pierce Ray, Arizona State University, Confederated Tribes and Bands of the Yakama Indian Nation

Harrison, Sonya, University of New Mexico, Navajo Tribe of AZ, NM, & UT

Harrison, Stacy D., University of New Mexico, Navajo Tribe of AZ, NM, & UT

Hassen, Kathleen Lois, Western Michigan University, Sault St. Marie Tribe—Chippewa

Hately, Mari Carlin, University of Washington School of Medicine, Alaska

Haugen, Julie Estelle, Bastyr University, Cherokee Nation of Oklahoma

Haukass, Nicole Marie, Creighton University, Rosebud Sioux

Hawkins, Amy Delah, St. Gregory's University, Muskogee (Creek) Nation of Oklahoma

Hawkins Leonard, Anna Mildred, University of Alaska—Anchorage, Alaskan

Hayes-Coons, Jennifer Lynn, Bacone College, Cherokee Nation of Oklahoma

Helm, Melissa Laquetia, Carl Albert State College, Choctaw Nation of Oklahoma

Hemann, Ryan David, Illinois State University, Assiniboine & Sioux

Henry, Abraham John, Augsburg College, Turtle Mountain Band of Chippewa Indians

Henry, Douglas Edward, Howard University, Navajo Tribe of AZ, NM, & UT

Henson, Mike Allen, University of Central Oklahoma, Comanche Indian Tribe of Oklahoma

Henson-Samuels, Andrea Jean, Bacone College, Cherokee Nation of Oklahoma

Hernandez, Pamela, University of Southern California, Navajo Tribe of AZ, NM, & UT

Hernandez, Ronald Joseph, Salish Kootenai College, Confederated Salish & Kootenai Tribes

Herne, Erika Lynn, State University of New York at Buffalo, St. Regis Band of Mohawk Indians

Hewlett, lori, University of Colorado at Denver, Navajo Tribe of AZ, NM, & UT

Hill, Paula Lynn, Western Michigan University, Sault Ste. Marie Tribe Chippewa

Hogue, Michael Andrew, George Washington University, Choctaw Nation of Oklahoma

Holman, Jason Grant, University of Oklahoma—Norman, Chickasaw Nation, Oklahoma

Holmes, Michael Sterling, East Central University, Cheyenne-Arapaho of Oklahoma

Honaberger, David Anthony, University of Puget Sound, Pueblo of San Juan

Horse, Lerena Dawn, University of Utah, Confederated Tribes of the Goshute

House-Howard, Irene A., University of New Mexico, Navajo Tribe of AZ, NM, & UT

Houston, Lindsay Nicole, Northeastern State University, Cherokee Nation of Oklahoma

Howeya, Lori Ann, University of New Mexico, Pueblo of Acoma

Howling Wolf, William L., University of North Dakota, Three Affiliated Tribes of the Fort Berthold Reservation

Hudson, Jacqueline Coleen, University of Oklahoma, Turtle Mountain Band of Chippewa Indians

Hugues, Ross Neil, University of Iowa, Shoshone-Bannock Fort Hall

Huie, Rhonda Ruth, University of Oklahoma, Muskogee (Creek) Nation of Oklahoma

Hull, Debra Maney, Western Carolina University, Eastern Band of Cherokee of North Carolina

Hulse, Hailey Vonn, Truman State University, Osage of Oklahoma

Huson, Betty Ann, California State University—Sacramento, Cherokee Nation of Oklahoma

Hyden, Andreana Dee, Coconino County Community College, Navajo Tribe of AZ, NM, & UT

Inge, Rudi Heath, University of Oklahoma, Choctaw Nation of Oklahoma

Ingram, Dena Gail, University of Oklahoma Health Sciences Center, Chickasaw Nation, Oklahoma

Interpreter, Christina Lynn, Northern Arizona University, Hopi Tribe, AZ

Irene, Linda Patrice, University of Oklahoma, Muskogee (Creek) Nation of Oklahoma

Ironmaker, Cheryl Diane, Montana State University—Northern, Assiniboine & Sioux Tribes

Ivanoff, Nora R., University of Washington, Alaskan

Jacobs, Vivian Francis, Cornell University, Cherokee Nation of Oklahoma

James, Gertrude Ann, New Mexico Highlands University, Navajo Tribe of AZ, NM, & UT

Janis, Amber Nicole, South Dakota University, Oglala Sioux Tribe of Pine Ridge, SD

Jefferson, Charlotte Kay, University of Montana School of Pharmacy, Crow Tribe of MT

Jensen, Michelle, University of Arizona, Navajo Tribe of AZ, NM, & UT

Jensen, Vanessa, University of Arizona, Navajo Tribe of AZ, NM, & UT

Jesse, Michelie, East Central Oklahoma State University, Citizen Band Potawatomi of Oklahoma

Jim, Melissa Ann, University of New Mexico, Navajo Tribe of AZ, NM, & UT

Johnson, Anne M., University of Alaska, Golovin Village (Chinik Eskimo), AK

Johnson, Beverly Mae, University of Washington, Emmonak Village

Johnson, Damon Douglas, University of Alaska, Confederated Salish & Kootenai Tribes

Johnson, Jennifer Michelle, Oregon State University, Tlingit & Haida, Central Council

Johnson, Kevin Lee, PIMA Medical Institute—Albuquerque, Navajo Tribe of AZ, NM, & UT

Johnson, Meredith Leigh, Oklahoma State University, Chickasaw Nation of Oklahoma

Johnson, Norman Chris, Utah State University, Sisseton-Wahpeton Sioux Tribe

Johnson, Roxanne Marie, University of North Dakota, Turtle Mountain Band of Chippewa Indians

Johnson, Stephanie Jean, Medcenter One, Pyramid Lake Paiute Tribe

Johnson, Tara Lee, Dine College, Navajo Tribe of AZ, NM, & UT

Johnson, Veronica Renee, University of New Mexico, Navajo Tribe of AZ, NM, & UT

Johnson, Vivian, California State University, Navajo Tribe of AZ, NM, & UT

Joice, Kelly A., University of Kansas—Lawrence, Cherokee Nation of Oklahoma

Joines, John Clifford, University of Oklahoma Health Sciences Center, Choctaw Nation of Oklahoma

Jones, Bernadine Rose, Northern Arizona University, Navajo Tribe of AZ, NM, & UT

Jones, Lillian, University of Phoenix, Navajo Tribe of AZ, NM, & UT

Jones-Pingleton, Ronda Kay, East Central Oklahoma State, Choctaw Nation of Oklahoma

Jordan, Michael James, Washington State University, Confederated Tribes of the Colville Reservation

Jumbo, Janice, Northern Arizona University, Navajo Tribes of AZ, NM, & UT

Juvinel-Henry, Lorna Tuanda, University of Washington, Confederated Tribes and Bands of the Yakama Indian Nation

Kady, Christiane Renee, University of Utah, Navajo Tribe of AZ, NM, & UT

Kanawite, Freida Mae, Albuquerque Tech-Voc Institute, Navajo Tribe of AZ, NM, & UT

Kanuho, Verdell, Northern Arizona University, Navajo Tribe of AZ, NM, & UT

Kaulaity, Joseph Jarrell, University of Arizona, Navajo Tribe of AZ, NM, & UT

Keen, Octa Emerald, Creighton University, Omaha of Nebraska

Keene, Kristi Michelle, Southwestern State College, Cherokee Nation of Oklahoma

Kelley, Harlan Hunt, Southern Illinois University, Cherokee Nation of Oklahoma

Kelley, Valerie, Northland Pioneer College, Navajo Tribe of AZ, NM, & UT

King, Carla Jean, Northern Montana College, Fort Belknap

King, Gloria, University of New Mexico, Navajo Tribe of AZ, NM, & UT

Kinlecheenie, Orlinda Lou, Northland Pioneer College, Navajo Tribe of AZ, NM, & UT

Kirk, John Vincent, Oklahoma State University, Cherokee Nation of Oklahoma

Kitto, Larrie Dale, Strayer University, Choctaw Nation of Oklahoma

Kjellsen, Patricia Lee, University of Alaska—Anchorage, Aleut

Klah, Josephine, Northern Arizona University, Navajo Tribe of AZ, NM, & UT

Kodaseet, Patricia, University of Oklahoma—Norman, Cheyenne-Arapaho of Oklahoma

Krulish, Arlene Mary, University of North Dakota, Devils Lake Sioux

Krulish, Arliss Marie, University of North Dakota, Devils Lake Sioux

Lamebull, Melissa Marie, University of Hawaii at Manoa, Cheyenne-Arapaho Tribes of Oklahoma

Lameman, Joann, University of Arizona, Navajo Tribe of AZ, NM, & UT

Lamere, Jennifer Jo, University of Central Oklahoma, Winnebago Tribe of Nebraska

Lampert, Rebeca Lynn, PIMA County Community College, Navajo Tribe of AZ, NM, & UT

Lane, Brandie Lyn, Montana State University, Blackfeet Tribe, MT

Lansing, Letitia, University of New Mexico—Albquerque, Navajo Tribe of AZ, NM, & UT

Largo, Revina, Brigham Young University, Navajo Tribe of AZ, NM, & UT

Lascano, Terrance Allen, University of Oklahoma, Comanche of Oklahoma

Lasch, Wilma Rae, University of Great Falls, Blackfeet Tribe, MT

Latocha, Demetrius H., University of Iowa, Standing Rock Sioux of N & S Dakota

Lauesen, Luann Rae, University of Alaska, Gulkana Village

Laughter, Richard Kim, University of Utah, Navajo Tribe of AZ, NM, & UT

Laurence-Leslie, Faith Hope, Arizona State University, Navajo Tribe of AZ, NM & UT

Lavender, Dorcas Mary, University of New Mexico—Albuquerque, White Mountain Apache Tribe

Lawhorn, William Andrew, University of Oklahoma, Cherokee Nation of Oklahoma

Lawrence, Tammy, University of North Dakota, Devils Lake Sioux

Lebeau, Michael E., University of North Dakota, Cheyenne River Sioux Tribe

Leemhuis, Stephanie Brook, University of Oklahoma, Cherokee Nation of Oklahoma

Lehner, Joann Naomi, Ogalala Lakota College, Oglala Sioux Tribes of Pine Ridge, SD

Lewis, Rusty Oswald, Bismarck State College, Devils Lake Sioux

Little, Kendall Jay, University of Oklahoma, Muskogee (Creek) Nation of Oklahoma

Littleghost, Sheila May, Sisseton Wahpeton Community College, Devil's Lake Sioux Tribe, ND

Lofgren, Paul Arthur, Johns Hopkins University, Cherokee Nation of Oklahoma

Long, Lorenda T., University of New Mexico—Albuquerque, Navajo Tribe of AZ, NM, & UT

Long-Likeric, Kendra Beth, University of Washington, Muskogee (Creek) Nation of Oklahoma

Lopez-Martin, Tanya Elizabeth, New Mexico Highlands University, Pueblo of Pojoaque, NM

Lorentine, Darra, University of Arizona, Tohono O'odham Nation of Arizona

Louise, Linda, Portland Community College, Mooretown Rancheria of Maidu

Lowrance, Jody Lynn, University of Oklahoma, Chickasaw Nation of Oklahoma

Lowry, Jessica, College of Charleston, Lumbee

Luebke, Jeneile Marie, University of Wisconsin Madison, Bad River Band of the Lake Superior Tribe of Chippewa

Lufkins, Delvin Kenneth, North Dakota State University, Sisseton-Wahpeton Sioux Tribe

Lundgren, Roberta Toneena, University of Washington, Tulalip Tribes of the Tulalip Reservation

Lutes, Crystal Dawn, University of Oklahoma Health Services Center, Navajo Tribe of AZ, NM, & UT

Luther, Deborah K., Northern Arizona University, Navajo Tribe of AZ, NM, & UT

Mahooty, Stephanie Juliet, Arizona State University, Zuni Tribe, NM

Manuelito, Darlene, University of New Mexico, Navajo Tribe of AZ, NM, & UT

Mariano, Karoline Shirley, Northern Arizona University, Navajo Tribe of AZ, NM, & UT

Martell-Rondeau, Christi Sue, North Dakota State University, Turtle Mountain Band of Chippewa Indians

Martine, Cynthia Ann, University of North Dakota, Jicarilla Apache Tribe

Martinez, Antoinette Patricia, University of North Dakota, Santa Ynez Band of Chumash

Martinez, Marie Jeannette, University of New Mexico, Navajo Tribe of AZ, NM, & UT

Masayesva, Brett G., University of Arizona, Hopi Tribe, AZ

Mason, Cheryl Lynn, University of New Mexico, Navajo Tribe of AZ, NM, & UT

Mason, Laquita Joy, Montana State University, Three Affiliated Tribes of the Fort Berthold Reservation

Mathis, Trina C, University of New Mexico, Navajo Tribe of AZ, NM, & UT

Mathison, Justin Lee, Umpqua Community College, Cow Creek Band of Umpqua

Matthews, Joshua Frame, University of Oklahoma, Eastern Band of Cherokee of NC

Maxon, Jeff Allen, North Dakota State University, Cheyenne River Sioux

McCarthy, Vincent Paul, University of Arizona, Comanche of Oklahoma

McCuistion, Robin Edward, Western Washington University, Aleut

McGilbary, Kristie Rae, Seminole State College, Kiowa of Oklahoma

McGinn, Michelle Lee, New Mexico Highlands University, Pueblo of Acuma

Merchant, Nicole Dawn, Montana State University, Crow Tribe of Montana

Miera, Melissa Renee, University of Kansas, Winnebago Tribe

Miles, Lori Louise, University of New Mexico, Navajo Tribe of AZ, NM, & UT

Miles, Mary Kristen, Northern Oklahoma College, Osage of Oklahoma

Miljur-Bryson, Pamela Michelle, University of Anchorage, Tlingit & Haida, Central Council

Miller, Marijai, University of Alaska, Alaskan

Monette, Eugene Louis, Turtle Mountain Band of Chippewa Indians

Montoya, Danny Dave, University of New Mexico—Gallup, Navajo Tribe of AZ, NM, & UT

Montoya, Marietta, University of New Mexico, Pueblo of Santa Anna

Moore, Kathleen White, Trevecca Nazarene University, Cherokee Nation of Oklahoma

Moore, Mary Kathleen, Oklahoma State University, Cherokee Nation of Oklahoma

Moran, Kristina Mae, Seattle Central Community College, Delaware Tribe of Western Oklahoma

Morgan, Vincent Dominic, Arizona State University, Navajo Tribe of AZ, NM, & UT

Morris, Charla Jean, University of North Dakota, Cherokee Nation of Oklahoma

Morris, Elizabeth Lynette, University of Oklahoma, Muskogee (Creek) Nation of Oklahoma

Morrison-Crossland, Eugena Shalyn, Columbia Union College, Cherokee Nation of Oklahoma

Mose, Paula Marie, University of New Mexico, Navajo Tribe of AZ, NM, & UT

Mose, Tallethea Ruth, University of New Mexico, Navajo Tribe of AZ, NM, & UT

Munoz, Corey Steven, Oklahoma State University—Stillwater, Cherokee Nation of Oklahoma

Murray, Timothy M., University of Oklahoma Health Sciences Center, Choctaw Nation of Oklahoma

Mushrush, Stephanie Ann, Riverside Community College, Washoe Tribe of Nevada & California

Naasz, Katrina Hillary, University of Colorado, Navajo Tribe of AZ, NM, & UT

Nahno-Kerchee, Walter Jay, University of Oklahoma, Comanche of Oklahoma

Napelee, Shannon Kaye, Arizona State University, Gila River Indian Community

Nason, Alvin James, University of North Dakota, Leech Lake—Minnesota Chippewa

Nauhauser, Diane M., Kean University, Cheyenne River Sioux

Nelson, Shannon, University of New Mexico—Albuquerque, Navajo Tribe of AZ, NM, & UT

Nelson, Tina Ann, Fort Lewis College, Navajo Tribe of AZ, NM, & UT

Nelwood, Carolyn Dee, University of New Mexico—Gallup, Navajo Tribe of AZ, NM, & UT

Nephew, Lesley Ellen, Erie Community College, Seneca Nation of New York

Nez, Sonya, Arizona State University, Navajo Tribe of AZ, NM, & UT

Nez, Treva Freda, PIMA Medical Institute—Mesa, Navajo Tribe of AZ, NM, & UT

Nez, Victoria, Northern Arizona University, Navajo Tribe of AZ, NM, & UT

Nidiffer, Amber Lynn, University of Oklahoma—Norman, Cherokee Nation of Oklahoma

Noisy Hawk, Lynelle Nancy, University of South Dakota, Oglala Sioux Tribe of the Pine Ridge Reservation, SD

Nunn, Diana Lynn, Oklahoma City Community College, Muskogee (Creek) of Oklahoma

Old Horn-Vondall, Carol R., University of Montana, Crow Tribe of MT

Olney, Elizabeth Marie, University of Washington School of Medicine, Chippewa Cree

Ortiz, Lisa Dianne, Wayne State University, Cherokee Nation of Oklahoma

Ortiz, Viola Maria, New Mexico State University, Pueblo of Acoma

Owaleon, Mona Lynette, University of New Mexico, Albuquerque, Zuni Tribe, NM

Owen, Mary June, University of Minnesota, Alaskan

Pablo, Evangeline, Northern Arizona University, Navajo Tribe of AZ, NM, & UT

Pack, Bruce Anthony, Northeast Louisiana School of Pharmacy, Cherokee Nation of Oklahoma

Palacol, Christie Kahikuonalani, University of Oklahoma—Norman, Comanche of Oklahoma

Palm, Toby James, Pacific University College, Cherokee Nation of Oklahoma

Paniagua, Calvin F., Central Michigan University, Little Traverse Bay Bands of Odawa, MI

Panteah, Valda Marie, Albuquerque Technical Vocational Institute, Zuni Tribe, NM

Pappan, Cynthia Rae, Creighton University, Turtle Mountain Band of Chippewa Indians

Paquette, Jessica Maureen, Michigan State University, Sault Ste. Marie Band of Chippewa Indians

Parisien Anjanette Marie, University of North Dakota, Turtle Mountain Band of Chippewa Indians

Parisien, Audrey Lee, Minot State University, Turtle Mountain Band of Chippewa Indians

Parisien, Shanon Ronnette, University of North Dakota, Turtle Mountain Band of Chippewa Indians

Parker, Adrienne, Mesa Community College, Navajo Tribe of AZ, NM, & UT

Paschall, Christopher Matthew, University of North Dakota, Chickasaw Nation of Oklahoma

Patnaude, Lawrence Andrew, North Dakota University, Turtle Mountain Band of Chippewa Indians

Patten, Tracie Lynn, University of Oklahoma Health Sciences Center, Comanche Indian Tribe of Oklahoma

Paul, Jamie Lee, Arizona State University, Navajo Tribe of AZ, NM, & UT

Payne, Jewel Ruby, Montana State University, Assiniboine & Sioux of Ft. Peck, MT

Peltier, Crystal Gayle, University of North Dakota, Turtle Mountain Band of Chippewa Indians

Pete, Dornell, Fort Lewis College, Navajo of AZ, NM, & UT

Peter, Myrna Elfreida, University of Washington, Native Village Fort Yukon

Peterman, Roxanne, University of Arizona, Navajo Tribe of AZ, NM, & UT

Pewenofkit, Rowena Jolene, University of Central Oklahoma, Kiowa of Oklahoma

Phelps-Parker, Nancy Elizabeth, University of Oklahoma Health Science Center, Cherokee Nation of Oklahoma

Phillips, Kristie Ann, University of Oklahoma Health Science Center, Citizen Band Potawatomi of Oklahoma

Pino, Michelle Lynette, University of New Mexico, Navajo Tribe of AZ, NM, & UT

Pittman, Larry Hale, Ohio College of Pediatric Medicine, Choctaw Nation of Oklahoma

Poolaw, Audrey Winnie, Southwestern Oklahoma State University, Comanche of Oklahoma

Poolaw, John Thomas, University of Oklahoma, Delaware Tribe of Western Oklahoma

Potts, Crystal, Northeastern State University, Choctaw Nation of Oklahoma

Potts, Richard Ray, University of Michigan, Chickasaw Nation of Oklahoma

Pretends Eagle, Katherine Nora, University of North Dakota, Sisseton-Wahpeton Sioux Tribe

Priest, Monica Eve, D'Youville College, Seneca Nation of New York

Purdum, Stephannie Lynn, University of Houston, Choctaw Nation of Oklahoma

Quam, Zellisha Alexis, University of New Mexico—Albuquerque, Zuni Tribe

Quoshena, Tanya Cojomana, University of New Mexico, Hopi Tribe

Radney, Ruth W., University of California—Bakersfield, Comanche Indian Tribe of Oklahoma

Ranco, Mark Robert, University of Maine, Penobscot Tribe of Maine

Real Bird, Lucy Lee, University of Oklahoma, Crow Tribe of Montana

Reano, Iris Jane, University of New Mexico—Albuquerque, Pueblo of Santo Domingo, NM

Red Elk, Lindsey Beth, Gateway Community College, Assiniboine & Sioux Tribes of Ft. Peck Indian Reservation, MT

Redfox-Freeman, Elizabeth Ann, Idaho State University, Shoshone-Brannock-Ft. Hall

Redstar, Winters Benson, Rocky Mountain College, Crow Tribe of Montana

Redsteer, Sheila Janet, University of Arizona, Navajo Tribe of AZ, NM & UT

Reyhner, Deborah Dawn, University of Colorado, Comanche Tribe of Oklahoma

Ricciardi, Catherine Joy, Salish Kootenai College, Fort Belknap, MT

Riggs, Randall Wayne, University of New Mexico—Gallup, Cherokee Nation of Oklahoma

Ritzhaupt, Amber, Northeastern State University, Eastern Band—Cherokee of North Carolina

Roberts, Montgomery Lee, Oklahoma State University, Cherokee Nation of Oklahoma

Robinson, Charlene, University of Arizona, Navajo Tribe of AZ, NM, & UT

Robison, Kristie Marie, Southwestern Oklahoma State University, Apache Tribe of Oklahoma

Roche, Patricia Ann, California State University—Sacramento, Oglala Sioux Tribe of the Pine Ridge Reservation, SD

Rogers, Brandon Scott, Northeastern State University, Cherokee Nation of Oklahoma

Rogers, Geraldene Kathy, Weber State University, Navajo Tribe of AZ, NM, & UT

Rolland, Geoffrey Grant, Oklahoma State University, Muskogee (Creek) Nation of Oklahoma

Rouse, Brant Philip, University of Oklahoma, Cherokee Nation of Oklahoma

Rousseau, Jonni Ann, Presentation College, Three Affiliated Tribes of the Fort Berthold Reservation

Rucker, Jennifer Ann, University of Oklahoma, Cherokee Nation of Oklahoma

Ruleford, Maranda Louisa, University of Tulsa, Cherokee Nation of Oklahoma

Rush, Chance Lee, Oklahoma Baptist University, Three Affiliated Tribes of the Ft. Berthold Reservation

Russell, Jennie Lou, New Mexico Highland University, Navajo Tribe of AZ, NM, & UT

Russell, Kim, Northern Arizona University, Navajo Tribe of AZ, NM, & UT

Ryan, Amy Jo, University of Montana, Cherokee Nation of Oklahoma

Sage, Della June, Sisseton Wahpeton Community College, Arapahoe Tribe of the Wind River

Sahmaunt, Rebecca Jo, East Central Oklahoma State University, Kiowa Indian Tribe of Oklahoma

Sam, Kimberly Gayle, University of Central Oklahoma, Kiowa Tribe of Oklahoma

Sanchez, Janet Catherine, New Mexico Highland University, White Mountain Apache

Sandoval, Wynema Marie, New Mexico State University, Navajo Tribe of AZ, NM, & UT

Saulque, Juliann, Washington State University, Confedrated Tribes Colville

Scalpcane, Annette Andrea, Rocky Mountain College, Crow Tribe of Montana

Scalpane-Moore, Lavonne Jean, Salish Kootenai College, Northern Cheyenne

Scheinesson, Sheila, University of Southern California, Navajo Tribe of AZ, NM, & UT

Schroeder, Dawn Marie, University of North Dakota, Turtle Mountain Band of Chippewa Indians

Scott, Bobbie Joe, Rogers State Universty, Cherokee Nation of Oklahoma

Scott, Brian Edward, University of Tulsa, Cherokee Nation of Oklahoma

Seaboy, Shirley Jean, Sisseton Wahpeton Community College, Crow Tribe of Montana

Sealey, Sandra Lynnette, Cameron University, Chickasaw Nation of Oklahoma

Seibel, Gennea Adelle, University of North Dakota, Three Affiliated Tribes of the Fort Berthold Reservation

Seubert, Andra Ruth, Washington State University, Nez Perce of Idaho

Shane, Allison Doreen, South Dakota State University, Alaskan

Shangreau, Rhiannon Brook, Oglala Sioux Community College, Oglala Sioux Tribe of the Pine Ridge Reservation, SD

Sharp, Joan, Salish Kootenai College, Confederated Salish & Kootenai Tribes

Shepard, Cristopher Allen Joseph, Pomona College, Alaskan/Not Specified

Shields, Deborah Anne, East Central OK State University, Prairie Band Potawatomi of Kansas

Shipley, Wade Paul, Rocky Mountain College, Turtle Mountain Band of Chippewa Indians

Shirley, Lenora Jean, University of New Mexico—Albuquerque, Navajo Tribe of AZ, NM, & UT

Shirley, Stella Louise, University of New Mexico—Gallup, Navajo Tribe of AZ, NM, & UT

Show, Michelle Rae, Montana State University, Fort Belknap Indian Community

Sinclair, Edward Jared Mathew, University of Montana, Blackfeet Tribe, MT

Sirmans, Jayna Deneice, Oklahoma State University, Choctaw Nation of Oklahoma

Skan, Eric Christopher, Washington State University, Ketchikan Indian Corp

Skin, Betty Erma, Wayland Baptist University, Selawik Native Village

Slim, Geraldine Ann, Phoenix College, Navajo Tribe of AZ, NM, & UT

Sloan, Adreanne, New Mexico Highlands University, Navajo Tribe of AZ, NM, & UT

Sloan, Rick Michael Wesley, University of Colorado, Cherokee Nation of Oklahoma

Smith, Barbara Ann, University of New Mexico—Albuquerque, Navajo Tribe of AZ, NM, & UT

Smith, Crystal Lee, University of Oklahoma, Mississippi Band of Choctaw

Smith, Derek Haskeltsie, Brigham Young University, Navajo Tribe of AZ, NM, & UT

Smith, Elaine Show, Montana State University, Blackfeet Tribe, MT

Smith, Linda Ann, Minot State College, Turtle Mountain Band of Chippewa Indians

Smith, Seneca Martin, Southwestern Oklahoma State University, Muskogee (Creek) Nation of Oklahoma

Smith, Sheila Rena, University of Oklahoma Health Sciences Center, Seminole of Oklahoma

Smith, Tiffany Beth, East Central Oklahoma State University, Cherokee Nation of Oklahoma

Snell, Jerry David, University of Oklahoma Dental School, Cherokee Nation of Oklahoma

Spotted Horse, Patricia Jean, American University, Standing Rock Sioux Tribe of N. & S. Dakota

Spurlock, Cory Stephen, University of Oklahoma, Citizen Band Potawatomi of OK

St. Clair, Billie Jo, North Dakota State University, Turtle Mountain Band of Chippewa Indians

St. John, Valdon John, University of Mary, Cheyenne River Sioux

Starbard, Karla Rachelle, University of Nevada, Craig Community College

Starks, Rachel Rose, Wheaton College, Zuni Tribe

Starr, Suzanne, Salish-Kootenai Community College, Northern Cheyenne

Stefaniak, Yvonne Chester, University of New Mexico—Gallup, Navajo Tribe of AZ, NM, & UT

Stevens, Andrew Levi, University of North Dakota, Cheyenne-Arapaho of Oklahoma

Stewart, Daryl Lee, University of New Mexico—Gallup, Navajo Tribe of AZ, NM, & UT

Stover, Patrick Pete, University of Oklahoma Dental School, Chickasaw Nation of Oklahoma

Strobbe, Vonne Kay, University of New Mexico—Albuquerque, Assiniboine & Sioux of Fort Peck, MT

Stuck, Andrew Timothy Lewis, University of Arizona, Navajo Tribe of AZ, NM, & UT

Stump-King, Glynna Marie, University of New Mexico—Gallup, Chippewa Cree Indians of RockyBoy, MT

Summerlin, Allen William, University of the Pacific, Cherokee Nation of Oklahoma

Sutton, Stephanie, University of Washington, Blackfeet Tribe, MT

Swan, Rhonda, University of Great Falls, Chickasaw Nation of Oklahoma

Swensen, Eric Carl, University of North Dakota, Aleut

Swift, Jennifer Renae, University of Arizona, San Carlos Apache Tribe

Taylor, Jody Belinda, University of North Dakota, Cherokee Nation of Oklahoma

Teasyatwho, Arlene Jean, University of New Mexico, Navajo Tribe of AZ, NM, & UT

Teller, Pamela, Dine College, Narraganset Indian Tribe of Rhode Island

Teller, Tanya Corina, University of New Mexico—Albuquerque, Navajo Tribe of AZ, NM, & UT

Tenequer, Valerie Leigh, Gateway Community College, Navajo Tribe of AZ, NM, & UT

Terrell, Mendy Renee, University of Oklahoma-Norman, Cherokee Nation of Oklahoma

Tescier, Echo, University of California—Berkeley, Citizen Band Potawatomi of Oklahoma

Thomas, Sheila, University of New Dakota, Turtle Mountain Band of Chippewa

Thomas, Veronica Rose, Mounty Marty College, Santee Sioux of Nebraska

Thomason, Felecia, University of New Mexico—Albuquerque, Navajo Tribe of AZ, NM, & UT

Thompson-Lookingback, Bret, University of Minnesota, White Earth Band-Minnesota Chippewa

Thrasher, Amy Renee, Northeastern State University, Choctaw Nation of Oklahoma

Todichenney, Linda Lee, Northland Pioneer College, Navajo Tribe of AZ, NM, & UT

Todicheeney, Rydell, Arizona State University, Navajo Tribe of AZ, NM, & UT

Tolino, Gerilyn Ardith, New Mexico Highlands University, Navajo Tribe of AZ, NM, & UT

Tom, Jolene, Northern Arizona University, Navajo Tribe of AZ, NM, & UT

Tommie, Titania Leonila, Arizona State University, Navajo Tribe of AZ, NM, & UT

Torres, Tina Marie, Heritage College, Turtle Mountain Band of Chippewa Indians

Toya, Antoinette Elisia, Forth Lewis College, Pueblo of Jemez, NM

Toya, Tirzah Marie, Albuquerque Technical Vocational Institute, Pueblo of Laguna, NM

Tracy, Caroline, Northern Arizona University, Navajo Tribe of AZ, NM, & UT

Tsethlikai, Cynthia, University of New Mexico, Zuni Tribe, NM

Tsethlikai, Nina Marie, University of New Mexico—Gallup, Zuni Tribe, NM

Tsingine, Georgia Lynn, University of Arizona, Navajo Tribe of AZ, NM, & UT

Tsosie, Orlando, Utah State University, Navajo Tribe of AZ, NM, & UT

Tsosie, Veronica Tonya, Northern Arizona University, Navajo Tribe of AZ, NM, & UT

Tunnell, Kimberly Rennee, Oklahoma State University, Kiowa of Oklahoma

Turner, Rayna June, Northern Oklahoma College, Apache Tribe of Oklahoma

Turney, Jarett Brandon, Northeastern State University, Cherokee Nation of Oklahoma

Tyner, Vera Alene, University of Oklahoma, Muskogee (Creek) Nation of Oklahoma

Underwood, April Dawn, Oklahoma State University, Cherokee Nation of Oklahoma

Upshaw, Juliana, Northern Arizona University, Navajo Tribe of AZ, NM, & UT

Uttchin, Venus, University of Oklahoma, Muskogre (Creek) Nation of Oklahoma

Van Meter, Catherine Leigh, University of Alabama, Poarch Band of Creek Indians of Alabama

Vandusen, Terra Andrea, Seminole State College, Cherokee Nation of Oklahoma

Vardeman, Barry Keith, University of Oklahoma—Norman, Cherokee Nation of Oklahoma

Vielle, Nadine Marie, Salish Kootenai Community College, Blackfeet Tribe, MT

Volden, Minisa Michelle, California School of Psychology, Cherokee Nation of Oklahoma

Vollin, Marcia Fay, University of Montana, Confederated Salish & Kootenai Tribe

Wahkinney, Margie Maxine, Cameron University, Comanche of Oklahoma

Walkingstick, Chanel Ryan, Northeastern State University, Cherokee Nation of Oklahoma

Wallace, Kacey Leann, University of Central Oklahoma, Choctaw Nation of Oklahoma

Walls, Andrew James, University of Oklahoma Dental School, Choctaw Nation of Oklahoma

Waquie, Monica Janet, Albuquerque Technical Vocational Institute, Pueblo of Jemez

Ward, Sandi Rae, Peninsula College, Makah Indian Tribe of Washington

Ware, Brenda Lee, Valley View Hospital, Cherokee Nation of Oklahoma

Watford, Velma Jean, Pima Community College, Navajo Tribe of AZ, NM, & UT

Weber, Shana Renae, Michigan State University, Oneida of Wisconsin

Webster, Edwin Quillin, University of Montana, Aleut, AK

Welch, Marvel Andrea, Western Carolina University, Eastern Band-Cherokee of North Carolina

Wells, Elmer Bruce, North Dakota State University, Three Affiliated Tribes of the Ft Berthold Reservation

Wells, Shane, Southern Adventist University, Tlingit & Haida, Central Council

Werito, Jennifer, University of New Mexico—Albuquerque, Navajo Tribe of AZ, NM, & UT

West, Michael Clinton, Oklahoma State University, Choctaw Nation of Oklahoma

Westman, Delana Denise, University of Oklahoma, Cherokee Nation of Oklahoma

Wheeler Sheehy, Antonia Loui, North Park University, Blackfeet Tribe, MT

White, Richard Kalvin, University of Utah, Navajo Tribe AZ, NM, & UT

White, Sidney John, Marquette University, Oneida of Wisconsin

White Calfe-Sayler, Verlee Key, University of North Dakota, Three Affiliated Tribes of the Ft Berthold Reservation

Whited, Stephanie Lynn, University of Southern Mississippi, Nenana Native Association

Whitehair, Jennifer June, University of North Dakota, Navajo Tribe of AZ, NM, & UT

Whitehair, Rosalita Marie, University of New Mexico, Navajo Tribe of AZ, NM, & UT

Wilcox, Amelia Mae, University of Phoenix, Navajo Tribe of AZ, NM, & UT

Willcuts, Peggy Sue, South Dakota State University, Rosebud Sioux

Willeto, Virginia, University of New Mexico, Navajo Tribe of AZ, NM, & UT

Williams, Alice, Coconino Community College, Navajo Tribe of AZ, NM, & UT

Williams, Amy Nicole, Bartlesville Wesleyan College, Choctaw Nation of Oklahoma

Williams-Begay, Vanessa, University of Phoenix, Navajo Tribe of AZ, NM, & UT

Wilson, Dana Lynn, Northland Pioneer College, Navajo Tribe of AZ, NM, & UT

Wilson, Dena Lynn, University of Washington, Oglala Sioux

Wilson, Mackenzie Paulette, University of Arizona, Navajo Tribe of AZ, NM, & UT

Wilson, Sandra, University of Oklahoma Dental School, Northern Cheyenne

Wing, Ilene Longknife, Montana State University, Assiniboine & Sioux

Winstead, Quana Marie, College of Health Sciences, Eastern Band—Cherokee of North Carolina

Witherspoon, Lachelle Linette, San Fransisco State University, Navajo Tribe of AZ, NM, & UT

Wood, Chad Nathaniel, University of Utah, Cherokee Nation of Oklahoma

Woolley, Eric Brady, University of Oklahoma, Iowa Tribe of Kansas & Nebraska

Work, Hugh Edward, University of Oklahoma Health Sciences Center, Choctaw Nation of Oklahoma

Worker, Shanna Renee, Grand Canyon University, Navajo Tribe of AZ, NM, & UT

Wright, Christy Marie, Arizona State University, Nenana Native Association

Wyaco, Barbie Jen, University of Arizona, Navajo Tribe of AZ, NM, & UT

Yazzie, Abiegail, New Mexico Highlands University, Navajo Tribe of AZ, NM, & UT

Yazzie, Charisse Lindsey, Scottsdale Community College, Navajo Tribe of AZ, NM, & UT

Yazzie, Nazhone Paul, University of Arizona, Navajo Tribe of AZ, NM, & UT

Yazzie, Sharon, University of New Mexico, Navajo Tribe of AZ, NM, & UT

Yazzie, Sheldwin, University of New Mexico—Albuquerque, Navajo Tribe of AZ, NM, & UT

Yazzie, Timothy, Midwestern University, Navajo Tribe of AZ, NM, & UT

Yazzie-Valencia, Martha, University of Oklahoma, Navajo Tribe of AZ, NM, & UT

Ybarra, Ysidro Patrick, University of Alaska, Crow Tribe of Montana

Yoe, Corinna Mae, Weber State University, Navajo Tribe of AZ, NM, & UT

York, Rebecca Ann, University of Arkansas Fayetteville, Cherokee Nation of Oklahoma

Young, Evelyn, Salish Kootenai College, Confederated Salish Kootenai & Tribes

Zubach, Kari Lynn, Carroll College, Blackfeet Tribe

Zunie, Janet, University of New Mexico, Zuni Tribe, NM

Zwaryck, Shelby Leone, University of Great Falls, Chippewa Cree Indians of the Rocky Boy's Reservation

FOR FURTHER INFORMATION CONTACT: The Indian Health Service Scholarship Branch, Twinbrook Metro Plaza, 12300 Twinbrook Parkway, Suite 100, Rockville, Maryland, 20852, Telephone: (301) 443-6197, Fax: (301) 443-6048.

Dated: May 19, 2000.
Michael H. Trujillo,
Assistant Surgeon General, Director.

[FR Doc. 00-13213 Filed 5-25-00; 8:45 am]

BILLING CODE 4160-16-M